SECURITIES AND EXCHANGE COMMISSION

[File No. 500-1]

In the Matter of Continental Beverage and Nutrition, Inc.; Order of Suspension of Trading

September 3, 2008.

It appears to the Securities and Exchange Commission that there is a lack of current and accurate information concerning the securities of Continental Beverage and Nutrition, Inc. (“Continental”) because it has not filed any periodic reports since it filed a Form 10-QSB for the period ended November 30, 2006.

The Commission is of the opinion that the public interest and the protection of investors require a suspension of trading in the securities of Continental.

Therefore, it is ordered, pursuant to Section 12(k) of the Securities Exchange Act of 1934, that trading in the securities of Continental is suspended for the period from 9:30 a.m. EDT on September 3, 2008, through 11:59 p.m. EDT on September 16, 2008.

By the Commission.
Florence E. Harmon,
Acting Secretary.

[FR Doc. E8-20707 Filed 9-3-08; 11:15 am]

BILLING CODE 8010-01-P